DEPARTMENT OF ENERGY

10 CFR Part 431

[Docket Number EERE-2007-BT-STD-0007]

RIN 1904-AB70

Energy Conservation Program: Energy Conservation Standards for Small Electric Motors; Correction

AGENCY: Office of Energy Efficiency and Renewable Energy, Department of Energy.

ACTION: Final rule; technical correction.

SUMMARY: This document contains a technical correction to the final rule regarding the energy conservation standards for small electric motors, which was published on March 9, 2010. In that final rule, the U.S. Department of Energy (DOE) adopted regulations to establish energy conservation standards for small electric motors. Due to a drafting error, an incorrect compliance date for this equipment was inadvertently inserted into the regulation. This correction notice addresses the error.

DATES: This technical correction is effective April 8, 2010.

FOR FURTHER INFORMATION CONTACT:

James Raba, U.S. Department of Energy, Office of Energy Efficiency and Renewable Energy, Building Technologies Program, EE-2J, 1000 Independence Avenue, SW., Washington, DC 20585-0121, (202) 586-8654. E-mail: Jim.Raba@ee.doe.gov.

Michael Kido, U.S. Department of Energy, Office of the General Counsel, GC-72, 1000 Independence Avenue, SW., Washington, DC 20585-0121, (202) 586-9507. E-mail: Michael.Kido@hq.doe.gov.

SUPPLEMENTARY INFORMATION:

I. Background

On March 9, 2010, the DOE's Office of Energy Efficiency and Renewable Energy published a final rule titled “Energy Conservation Standards for Small Electric Motors.” 75 FR 10874. Since the publication of that rule, it has come to DOE's attention that, due to a technical oversight, a certain part of the final regulations inadvertently applied an incorrect date by which manufacturers would need to comply with the standards established by that rule. That section of the regulations, section 431.446(a) of Title 10 of the Code of Federal Regulations (10 CFR), Part 431, provides a date of February 28, 2015. 75 FR 10947. Instead, that date should be March 9, 2015, which is 60 months from the date of the final rule's publication in the Federal Register, and in the case of a small electric motor that requires listing or certification by a nationally recognized safety testing laboratory, March 9, 2017, 84 months after such date. Both of these dates are specified compliance dates for small electric motor standards under the Energy Policy and Conservation Act of 1975, as amended (EPCA). See 42 U.S.C. 6317(b)(3).

II. Need for Correction

As published, the final regulation contains an erroneous date that this document corrects. In light of the statutory requirement, the considerable amount of time before the compliance date and, in the case of the 2015 date, the small difference in the number of days at issue, the change addressed by today's document is technical in nature. Because these dates are specified by EPCA, DOE does not have the discretion to deviate from these statutorily-prescribed requirements. As such, DOE finds that there is good cause under 5 U.S.C. 553(b)(B) and that the issuance of a separate notice to solicit public comment on the changes contained in this notice is unnecessary. In FR Doc. 2010-4358, appearing in the document beginning on page 10947 in the Federal Register of Tuesday, March 9, 2010, the following correction is made:

§ 431.446 [Corrected]

1. On page 10947, in the third column, under § 431.446, introductory paragraph (a) is corrected to read as follows:

§ 431.446 Small electric motors energy conservation standards and their effective dates.

(a) Each small electric motor manufactured (alone or as a component of another piece of non-covered equipment) after March 9, 2015, or in the case of a small electric motor which requires listing or certification by a nationally recognized safety testing laboratory, after March 9, 2017, shall have an average full load efficiency of not less than the following:

* * *

* * * * *

Issued in Washington, DC, on March 29, 2010.
Cathy Zoi,
Assistant Secretary, Energy Efficiency and Renewable Energy.

[FR Doc. 2010-7642 Filed 4-2-10; 8:45 am]

BILLING CODE 6450-01-P